DEPARTMENT OF COMMERCE

National Oceanic and Atmospheric Administration

50 CFR Part 648

[Docket No. 130919816-4205-02]

RIN 0648-XE266

Fisheries of the Northeastern United States; Atlantic Herring Fishery; Georges Bank Haddock Catch Cap Harvested

AGENCY: National Marine Fisheries Service (NMFS), National Oceanic and Atmospheric Administration (NOAA), Commerce.

ACTION: Temporary rule; closure.

SUMMARY: NMFS is closing the directed herring fishery in the Herring Georges Bank Haddock Accountability Measure Area based on a determination that the Georges Bank Haddock Catch Cap has been harvested. Federally permitted vessels may not fish for, possess, transfer, receive, land or sell more than 2,000 lb (907.2 kg) of Atlantic herring in or from the Herring Georges Bank Haddock Accountability Measure Area for the remainder of the fishing year. Also, vessels issued Federal permits for Atlantic herring fishing with midwater trawl gear, or vessels issued an All Areas and/or Areas 2 and 3 Limited Access Atlantic herring permit on a declared Atlantic herring trip, regardless of gear used, may not possess haddock, unless also on a declared Northeast multispecies trip with a Northeast multispecies permit.

DATES: Effective 0001 hr local time, October 22, 2015, through April 30, 2016.

FOR FURTHER INFORMATION CONTACT: Shannah Jaburek, Fishery Management Specialist, (978) 282-8456.

SUPPLEMENTARY INFORMATION: Regulations governing the Atlantic herring fishery and the Northeast (NE) multispecies fishery can be found at 50 CFR part 648. The NE multispecies regulations require specification of acceptable biological catches (ABC), annual catch limits, and overfishing limits for each of the NE multispecies stocks. The haddock catch allowance for vessels issued a Federal herring permit is one percent of each of the ABCs for Gulf of Maine haddock and Georges Bank (GB) haddock stocks. The 2015 haddock ABC is 53,717,835 million lb (24,366 mt), and one percent of the ABC has been allocated to the GB Haddock Catch Cap for the 2015 fishing year, which is further reduced by seven percent to 500,449 lb (227 mt) to account for management uncertainty (80 FR 25109).

The regulations at § 648.201 require the Administrator, Greater Atlantic Region, NMFS (Regional Administrator), to determine when the GB Haddock Catch Cap has been fully harvested. Once the GB Haddock Catch Cap has been harvested, regulations require NMFS to prohibit herring vessel permit holders from fishing for, possessing, transferring, receiving, landing, or selling more than 2,000 lb (907.2 kg) of herring per trip or calendar day in or from the Herring GB Haddock AM Area for the remainder of the fishing year. Additionally, federally permitted herring vessels fishing with midwater trawl gear can no longer possess haddock in the Herring GB Haddock Accountability Management (AM) Area for the reminder of the fishing year, unless vessels are also fishing on a declared NE multispecies trip with a NE multispecies permit. Vessels issued an All Areas or Areas 2 and 3 Limited Access herring permit on a declared herring trip cannot possess haddock in the Herring GB Haddock AM Area, regardless of the gear used.

The Regional Administrator has determined, based on dealer reports and other available information, that the herring fleet has fully harvested the GB Haddock Catch Cap. Therefore, effective 0001 hr local time, October 22, 2015, federally permitted vessels may not fish for, possess, transfer, receive, land, or sell more than 2,000 lb (907.2 kg) of herring per trip or calendar day, in or from the Herring GB Haddock AM Area through April 30, 2016, except vessels that have entered port before 0001 hr on October 22, 2015, may land and sell more than 2,000 lb (907.2 kg) of herring from the Herring GB Haddock AM Area from that trip. A vessel may transit through the Herring GB Haddock AM Area with more than 2,000 lb (907.2 kg) of herring on board, provided all herring onboard was caught outside the Herring GB Haddock AM Area and all fishing gear is stowed and not available for immediate use as defined by § 648.2. Effective 0001 hr, October 22, 2015, herring vessels fishing with midwater trawl gear cannot possess haddock and vessels issued All Areas or Areas 2 and 3 Limited Access herring vessels on a declared herring trip cannot possess haddock regardless of gear used, unless on a declared NE multispecies trip with a NE multispecies permit. Effective 0001 hr, October 22, 2015, federally permitted dealers may not receive herring from federally permitted herring vessels that harvest more than 2,000 lb (907.2 kg) of herring from the Herring GB Haddock AM Area through 2400 hr local time, April 30, 2016, unless it is from a vessel that entered port before 0001 hr on October 22, 2015.

Classification

This action is required by 50 CFR part 648 and is exempt from review under Executive Order 12866.

NMFS finds good cause pursuant to 5 U.S.C. 553(b)(B) to waive prior notice and the opportunity for public comment because it would be contrary to the public interest and impracticable. This action severely restricts the catch of GB herring in the GB Haddock AM Area until May 1, 2016. The regulations at § 648.201(a) require such action to ensure that herring vessels do not exceed the haddock catch allocated to the herring fishery. Data indicating the herring fleet will have harvested GB Haddock Catch Cap have only recently become available. If implementation of this closure is delayed to solicit prior public comment, the catch of GB haddock allocated to the herring fishery for this fishing year may be exceeded, thereby undermining the conservation objectives of the FMP. NMFS further finds, pursuant to 5 U.S.C 553(d)(3), good cause to waive the 30-day delayed effectiveness period for the reasons stated above.

Authority: 16 U.S.C. 1801 et seq.

Dated: October 19, 2015.
Emily H. Menashes,
Acting Director, Office of Sustainable Fisheries, National Marine Fisheries Service.

[FR Doc. 2015-26875 Filed 10-19-15; 4:15 pm]

BILLING CODE 3510-22-P